DEPARTMENT OF COMMERCE

International Trade Administration

[A-570-855]

Certain Non-Frozen Apple Juice Concentrate From the Peoples' Republic of China: Rescission of Antidumping Duty Administrative Review

AGENCY: Import Administration, International Trade Administration, Department of Commerce

DATES: Effective Date: December 29, 2010.

SUMMARY: The Department of Commerce (“Department”) is rescinding the administrative review of non-frozen apple juice concentrate from the People's Republic of China (“PRC”) for the period of review (“POR”) June 1, 2009, through May 31, 2010. This rescission is based on the timely withdrawal of request for review by the two interested parties that requested the review, Sanmenxia Luck Fruit Co., Ltd. (“SLFI”) and Qin'an Great Wall Fruit Juice and Beverage Co., Ltd. (“Qin'an”).

FOR FURTHER INFORMATION CONTACT: Tim Lord, Office 9, AD/CVD Operations, Import Administration, International Trade Administration, U.S. Department of Commerce, 14th Street and Constitution Avenue, NW., Washington, DC 20230; telephone: (202) 482-7425.

Background

On June 1, 2010, the Department published in the Federal Register a notice of opportunity to request an administrative review on the antidumping order on non-frozen apple juice concentrate from the PRC ¹ for the POR June 1, 2009, through May 31, 2010. See Antidumping or Countervailing Duty Order, Finding, or Suspended Investigation; Opportunity To Request Administrative Review, 75 FR 30383, 30384 (June 1, 2010). Based upon requests for review from various parties, on July 28, 2010, the Department initiated an antidumping duty administrative review on non-frozen apple juice concentrate from the PRC, covering two companies. See Initiation of Antidumping and Countervailing Duty Administrative Reviews and Requests for Revocations in Part, 75 FR 44224, 44226 (July 28, 2010). Due to the probable revocation of the Order, SLFI and Qin'an withdrew their requests for review on November 8 and November 9, 2010, respectively.² The Order was revoked on November 15, 2010. See Non-Frozen Apple Juice Concentrate From the People's Republic of China: Final Results of Sunset Review and Revocation of Order, 75 FR 69628 (November 15, 2010). Due to timely withdrawals of all requests for review, we are rescinding this administrative review with respect to all companies.

¹ See Notice of Amended Final Determination of Sales at Less Than Fair Value and Antidumping Duty Order: Certain Non-Frozen Apple Juice Concentrate From the People's Republic of China, 65 FR 35606 (June 5, 2000) (“Order”).

² See Certain Non-Frozen Apple Juice Concentrate from the PRC—Withdrawal of SLFI Antidumping Duty Administrative Review Request, dated November 8, 2010; see also Qin'an Great Wall Fruit Juice & Beverage Co., Ltd. Withdrawal of Administrative Review Request: 2009-2010 Administrative Review of the Antidumping Duty Order on Non-Frozen Apple Juice Concentrate from the People's Republic of China, dated November 9, 2010.

Rescission of Review

The applicable regulation, 19 CFR 351.213(d)(1), states that if a party that requested an administrative review withdraws the request within 90 days of the publication of the notice of initiation of the requested review, the Secretary will rescind the review. The regulation further states that the Secretary may extend the deadline if it is reasonable to do so. On October 21, 2010, the Department extended the deadline for withdrawal of administrative review requests by 20 days for both respondents due to the pending revocation of the Order. ³ The two respondents in the administrative review, SLFI and Qin'an, withdrew their requests for a review before the deadline. Therefore, the Department is rescinding this review of the Order on non-frozen apple juice concentrate from the PRC covering the period June 1, 2009, through May 31, 2010.

³ See Administrative Review of Certain Non-Frozen Apple Juice Concentrate From the People's Republic of China (“PRC”): Extension of Deadline to Withdraw Review Request, dated October 21, 2010.

Assessment

The Department intends to issue assessment instructions to U.S. Customs and Border Protection (“CBP”) 15 days after publication of this rescission notice. The Department will instruct CBP to assess antidumping duties at rates equal to the cash deposit of estimated antidumping duties required at the time of entry, or withdrawal from warehouse, for consumption, in accordance with 19 CFR 351.212(c)(1)(i).

Notification to Parties

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 22, 2010.
Christian Marsh,
Deputy Assistant Secretary for Antidumping and Countervailing Duty Operations.

[FR Doc. 2010-32865 Filed 12-28-10; 8:45 am]

BILLING CODE 3510-DS-P